DEPARTMENT OF AGRICULTURE

Animal and Plant Health Inspection Service

[Docket No. APHIS-2016-0045]

Environmental Impact Statement; Grasshopper and Mormon Cricket Suppression Program

AGENCY: Animal and Plant Health Inspection Service, USDA.

ACTION: Notice of intent to prepare an environmental impact statement.

SUMMARY: We are advising the public that the Animal and Plant Health Inspection Service plans to prepare an environmental impact statement to analyze the effects of a program to suppress populations of grasshoppers and Mormon cricket from 17 States in the western United States. This notice identifies potential issues and alternatives that will be studied in the environmental impact statement, and requests public comments to further delineate the scope of the alternatives and environmental impacts and issues.

DATES: We will consider all comments that we receive on or before October 17, 2016.

ADDRESSES: You may submit comments by either of the following methods:

• Federal eRulemaking Portal: Go to http://www.regulations.gov/#!docketDetail;D=APHIS-2016-0045.

• Postal Mail/Commercial Delivery: Send your comment to Docket No. APHIS-2016-0045, Regulatory Analysis and Development, PPD, APHIS, Station 3A-03.8, 4700 River Road, Unit 118, Riverdale, MD 20737-1238.

Supporting documents and any comments we receive on this docket may be viewed at http://www.regulations.gov/#!docketDetail;D=APHIS-2016-0045 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For questions related to the Grasshopper and Mormon Cricket Suppression Program, contact Mr. William D. Wesela, APHIS National Grasshopper and Mormon Cricket Program Manager, William.D.Wesela@aphis.usda.gov, (301) 851-2229. For questions related to the environmental impact statement, contact Dr. Jim Warren, Environmental Protection Specialist, Environmental and Risk Analysis Services, PPD, APHIS, 4700 River Road, Unit 149, Riverdale, MD 20737; Jim.E.Warren@aphis.usda.gov; (202) 316-3216.

SUPPLEMENTARY INFORMATION: About 400 species of grasshoppers inhabit the 17 western States (Arizona, California, Colorado, Idaho, Kansas, Montana, Nebraska, Nevada, New Mexico, North Dakota, Oklahoma, Oregon, South Dakota, Texas, Utah, Washington, and Wyoming) involved in the Animal and Plant Health Inspection Service's (APHIS') cooperative grasshopper suppression program, but only a small percentage are considered pest species. APHIS assists Federal land management agencies and State, county, and local governments during rangeland pest outbreaks. Grasshoppers and Mormon crickets (hereafter referred to collectively as grasshoppers) feed on and damage grasses and other vegetation, including some adjacent crops.

Rangeland in the western United States is a valuable agricultural resource for livestock production. Other economic benefits include energy production sites and recreation uses. Rangelands also provide numerous ecosystem benefits, such as protection of water and soil quality, nutrient cycling and serve as habitat for a variety of wildlife. Grasshoppers are natural components of this ecosystem; however, their populations can reach outbreak levels and cause serious economic losses to rangeland forage, especially when accompanied by a drought. A rapid and effective response is required when a grasshopper outbreak develops and threatens rangeland forage.

Currently, APHIS conducts surveys for grasshopper populations on rangeland in the western United States, provides technical assistance on grasshopper management to land owners/managers, and cooperatively suppresses grasshoppers when direct intervention is requested by a Federal land management agency or a State agriculture department and deemed necessary.

Under the provisions of the National Environmental Policy Act of 1969 (NEPA), as amended (42 U.S.C 4321 et seq.), Federal agencies must examine the potential environmental effects of the proposed Federal actions and alternatives. As such, we intend to prepare an environmental impact statement (EIS) to examine the environmental effects of control alternatives available to the agency, including a no action alternative. The EIS will be used for planning and decisionmaking and to inform the public about the environmental effects of APHIS' grasshopper suppression activities. It will also provide an overview of APHIS activities to which we can tier site-specific analyses and environmental assessments if new grasshopper infestations are discovered in the affected States.

We are requesting public comment to help us identify or confirm potential alternatives and environmental issues that should be examined in the EIS, as well as comments that identify other issues that should be examined in the EIS.

The EIS will be prepared in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

We have identified three alternatives for further examination in the EIS:

No action. Under this alternative, APHIS would maintain the program that was described in the 2002 EIS and Record of Decision. APHIS may opt to provide technical assistance, but any suppression program would be implemented by a Federal land management agency, a State agriculture department, a local government, or a private group or individual.

No suppression program. Under this alternative, APHIS would not fund or participate in any program to suppress grasshopper infestations. APHIS may opt to provide technical assistance, but any suppression program would be implemented by a Federal land management agency, a State agriculture department, a local government, or a private group or individual.

Insecticide applications at conventional rates or reduced agent area treatments. This alternative would update the information and technologies that were analyzed in the 2002 EIS. The insecticides available for use by APHIS include the U.S. Environmental Protection Agency-registered chemicals carbaryl, diflubenzuron, chlorantraniliprole, and malathion. Carbaryl and malathion are cholinesterase inhibitors which effects the nervous system. Diflubenzuron is an insect growth regulator. Chlorantraniliprole affects the nervous system by activating ryanodine receptors in insects. Only one insecticide would be used at a time, and would be applied at a rate that is normally or conventionally used for grasshopper suppression treatments, or could be applied as a reduced agent area treatment (RAATs). The RAATs strategy uses a reduced rate of insecticide from conventional levels by alternating treatment swaths in a spray block, reduced application rates, or both. The RAATs strategy suppresses grasshoppers within treated swaths, while conserving grasshopper predators and parasites in swaths that are not treated. An adaptive approach of either conventional rates or RAATs will allow the program to make site-specific suppression applications using a range of application rates to ensure adequate suppression.

We have identified the following potential environmental impacts or issues for further examination in the EIS:

• Effects on wildlife, including consideration of migratory bird species and changes in native wildlife habitat and populations, and federally listed endangered and threatened species.

• Effects on soil, air, and water quality.

• Effects on human health and safety.

• Effects on cultural and historic resources.

• Effects on economic resources.

All comments on this notice will be carefully considered in developing the final scope of the EIS. Upon completion of the draft EIS, a notice announcing its availability and an invitation to comment on it will be published in the Federal Register.

Done in Washington, DC, this 26th day of August 2016.
Kevin Shea,
Administrator, Animal and Plant Health Inspection Service.

[FR Doc. 2016-21082 Filed 8-31-16; 8:45 am]

BILLING CODE 3410-34-P